Proclamation 8441 of October 19, 2009

United Nations Day, 2009

By the President of the United States of America

A Proclamation

The United Nations was created 64 years ago by men and women from every corner of the world. These architects of international cooperation acted out of an idealism rooted in the hard-earned lessons of war. They had the wisdom to understand that nations could do far more to advance their interests by acting together than by letting themselves be split apart. The original 51 member nations were united around a commitment to peace, humanity, and justice.

Today, with 192 member states, the United Nations is the principle forum for all nations, large and small, to work in concert to meet the global challenges no nation can confront alone. The U.N. is vital to America’s efforts to create a better, safer world. Through peacekeeping missions that have saved so many lives and averted so many wars; lifesaving humanitarian work; critical development activities; and its unique legitimacy, the U.N. can function as a forum that brings all nations together.

The U.N. sometimes struggles to live up to its founding ideals, as it can only be effective if its member states choose to meet their own responsibilities. At its best, this indispensible, if imperfect, institution helps to resolve conflicts and rebuild shattered societies; to lay the foundations of democracy, human rights, and development; and to establish conditions in which people can live in dignity and mutual respect. The member states of the U.N. have an obligation to demonstrate the will and leadership to match the aspirations of all. Now is the time for all of us to assume our share of responsibility to meet global challenges.

Committed in our resolve to create a world our people deserve, we look to the future with confidence. As expressed in the founding values of the United Nations, we share a common security and are unified by our common humanity. This truth calls us to work cooperatively with nations from around the globe in the pursuit of peace, economic prosperity, and human opportunity.

NOW, THEREFORE, I, BARACK OBAMA, President of the United States of America, by virtue of the authority vested in me by the Constitution and the laws of the United States, do hereby proclaim October 24, 2009, as United Nations Day. I urge the Governors of the 50 States, and the officials of all other areas under the flag of the United States to observe United Nations Day with appropriate ceremonies and activities.

IN WITNESS WHEREOF, I have hereunto set my hand this nineteenth day of October, in the year of our Lord two thousand nine, and of the Independence of the United States of America the two hundred and thirty-fourth.

[FR Doc. E9-25765

Filed 10-22-09; 11:15 am]

Billing code 3195-W9-P